SECURITIES AND EXCHANGE COMMISSION

Sunshine Act Meeting.

FEDERAL REGISTER CITATION OF PREVIOUS ANNOUNCEMENT: 66 FR 47930, September 14, 2001.

STATUS: Closed meeting.

PLACE: 450 Fifth Street, NW., Washington, DC.

DATE PREVIOUSLY ANNOUNCED: September 10, 2001.

CHANGE IN THE MEETING: Cancellation of Meeting.

The closed meeting scheduled for Monday, September 17, 2001 at 10:00 a.m. has been cancelled.

Dated: September 14, 2001.
Jonathan G. Katz,
Secretary.

[FR Doc. 01-23443 Filed 9-17-01; 12:30 pm]

BILLING CODE 8010-01-M